DEPARTMENT OF THE INTERIOR

Bureau of Land Management

[CO-930; COC-63604]

Proposed Withdrawal; Opportunity for Public Meeting; Colorado

AGENCY: Bureau of Land Management, Interior.

ACTION: Notice.

SUMMARY: The U.S. Department of Agriculture, Forest Service, proposes to withdraw approximately 10,432 acres of National Forest System lands for 10 years to allow the Forest Service management alternatives in managing these lands. This notice closes these lands to location and entry under the mining laws for up to two years. The lands remain open to mineral leasing.

DATES: Comments on this proposed withdrawal must be received on or before May 1, 2000.

ADDRESSES: Comments should be sent to the Colorado State Director, BLM, 2850 Youngfield Street, Lakewood, Colorado 80215-7093.

FOR FURTHER INFORMATION CONTACT: Doris E. Chelius, 303-239-3706.

SUPPLEMENTARY INFORMATION: On January 18, 2000, the Department of Agriculture, Forest Service, filed an application to withdraw the following described National Forest System lands from location and entry under the United States mining laws (30 U.S.C. Ch 2), subject to valid existing rights:

Sixth Principal Meridian

White River National Forest

T. 5 S., R. 76 W.,

Sec. 20, lots 2, 3, 4, 15, 24 thru 29, inclusive, 32, 33, 34, 35, 43, and 47 thru 51, inclusive;

Sec. 21, S½N½ and S½;

Sec. 22, S½;

Sec. 23, SW¼SW¼;

Sec. 26, lots 2, 3, and 7, and NW¼NW¼;

Sec. 27; Sec. 28;

Sec. 29, E½ and E½E½W½;

Sec. 32, E½, E½NE¼NW¼, SE¼NW¼, and E½SW¼;

Sec. 33;

Sec. 34, NW¼.

T. 5 S., R. 77 W.,

Sec. 23, lots 11, 13, and 15, S½SE¼, and S½NW¼SE;

Sec. 24, lot 11 and W½SW¼;

Sec. 25, W½NW¼, W½NE¼SW¼, NW¼SW¼, N½SW¼SW¼, SE¼SW¼SW¼, and SE¼SW¼;

Sec. 26, NE¼NE¼NE¼, W½E½, E½W½, SW¼NE¼SE¼, and W½SE¼SE¼;

Sec. 35, E½ and E½NW¼;

Sec. 36, W½NE¼, SE¼NE¼, NE¼NW¼, SW¼NW¼NW¼, SW¼NW¼, NE¼SE¼NW¼, W½NE¼SW¼,S½SW¼, and NW¼SW¼.

T. 6 S., R. 76 W.,

Sec. 4, lots 3, 4, 5, 6, 11, and 12, and SW¼;

Sec. 5, lots 1 thru 12, inclusive;

Sec. 6, lots 1, 8, and 9, and E½SE¼;

Sec. 8, S½N½SW¼.

T. 6 S., R. 77 W.,

Sec. 2, lots 1 thru 4, inclusive, SW¼NE¼, S½NW¼, SW¼, and W½SE¼;

Sec. 3, S½;

Sec. 4, SE¼SE¼;

Sec. 9, E½E½;

Sec. 10;

Sec. 11;

Sec. 12, W½SW¼ and SE¼SW¼;

Sec. 13, N½ and N½S½;

Sec. 14, lots 1, 2, 4, and 5, N½, and N½SE¼;

Sec. 15, lot 1, NE¼, E½NW¼ and NW¼NW¼

Sec. 16, lot 1.

The areas described aggregate approximately 10,432 acres in Summit County. This application excludes any patented lands within the boundary of the proposed withdrawal.

The purpose of this withdrawal is to provide the Forest Service Management Alternatives in managing these lands.

For a period of 90 days from the date of publication of this notice, all parties who wish to submit comments, suggestions, or objections in connection with this proposed withdrawal, may present their views in writing to the Colorado State Director. A public meeting will be scheduled and conducted in accordance with 43 CFR 2310.3-1(c)(2). Notice of the time and place of the meeting will be published in the Federal Register.

This application will be processed in accordance with the regulations set forth in 43 CFR Part 2310.

For a period of two years from the date of publication in the Federal Register, this land will be segregated from the mining laws as specified above, unless the application is denied or canceled or the withdrawal is approved prior to that date. During this period the Forest Service will continue to manage these lands.

Jenny L. Saunders,
Realty Officer.

[FR Doc. 00-2101 Filed 1-31-00; 8:45 am]

BILLING CODE 3410-11-P